DEPARTMENT OF LABOR

Employment and Training Administration

Notice of Determinations Regarding Eligibility To Apply for Worker Adjustment Assistance

In accordance with Section 223 of the Trade Act of 1974, as amended (19 USC 2273) the Department of Labor herein presents summaries of determinations regarding eligibility to apply for trade adjustment assistance for workers by (TA-W) number issued during the period of October 5 through October 16, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-70,722; Marsh Furniture Company, Leased Workers from Graham and Associates, High Point, NC. May 28, 2008

TA-W-70,882; Diversified Systems, Inc., Printed Circuit Div./Leased Workers of Aerotek Commercial, Indianapolis, IN. June 2, 2008

TA-W-70,964; Yorktowne Cabinetry, Mifflinburg, PA. May 19, 2008

TA-W-71,178; Anderson Global, Inc., Muskegon Heights, MI. February 9, 2009

TA-W-71,287; Masco Builder Cabinet Group, Leased Workers from Reserves Network, Jackson, OH. June 11, 2008

TA-W-71,840A; Willstaff Staffing Agency and MDS Industrial Resources, Inc., Tyler Pipe Company/Waterworks Division, South Plant, Tyler, TX. July 28, 2008

TA-W-71,840; Tyler Pipe Company, Waterworks Division, South Plant, Tyler, TX. August 1, 2009

TA-W-72,300; National Office Furniture-Fordsville, Leased Workers from Manpower, Fordsville, KY. September 14, 2008

TA-W-72,492; Adams Granite Company, Inc., Barre, VT. October 2, 2008

TA-W-71,686A; RM International, Inc., Madras, OR. July 14, 2008

TA-W-71,686; RM International, Inc., Portland, OR. July 14, 2008

TA-W-70,682; The Magnus Group, Inc, Progressive Information Technologies, Off-Site Workers in Rochester NY, Emigsville, PA. May 26, 2008

TA-W-72,127; Wintersleiger, Inc., Seedmech Division, Colwich, KS. August 25, 2008

TA-W-70,075; Colorite Specialty Resins, A Subsidiary of Tekni-Plex, Burlington, NJ. May 18, 2008

TA-W-70,172; Midwest Tool and Die Corporation, Fort Wayne, IN. May 18, 2008

TA-W-70,422; Wyoming Sawmills, Inc., Sheridan, WY. May 19, 2008

TA-W-70,505; ArcelorMittal Lackawanna LLC, Blasdell, NY. May 18, 2008

TA-W-70,538; Barber Brake Beam, LLC, A Subsidiary of Wabtec Corporation, Saint Joseph, MI. May 19, 2008

TA-W-70,570; Unilin Flooring NC, LLC, A Subsidiary of Mohawk Industries, Melbourne, AR. May 20, 2008

TA-W-70,600; Klaussner Furniture of California, Inc, La Mirada, CA. May 22, 2008

TA-W-70,607; Penguin, LLC, Sturgis, MI. May 20, 2008

TA-W-70,637; Pandora Manufacturing, LLC, Leased Workers From Allstaff, Spherion, Pandora, OH. May 20, 2008

TA-W-70,790; Matrix Tool, Inc., Mishawaka, IN. May 21, 2008

TA-W-70,940; Ray Lewis and Son, Marysville, OH. May 18, 2008

TA-W-70,978; Pace Industries, LLC, Auburn Division/Leased Workers of Employment Resources, Auburn, AL. June 2, 2008

TA-W-71,454; American Hollow Boring Company, Inc., Erie, PA. June 26, 2008

TA-W-71,872; Fraser Papers LTD, Leased Workers of Tempo Employment Services, Madawaska, ME. August 10, 2009

TA-W-71,934; Clarcor Air Filtration Products, Inc., Leased Workers of The Work Connection, Campbellsville, KY. August 5, 2008

TA-W-72,083; Hutchinson Technology, Inc., Sioux City Plant, Sioux Falls, SD. August 19, 2008

TA-W-72,102; E. R. Wagner Manufacturing, Casters and Wheels Division, Hustisford, WI. August 21, 2008

TA-W-70,616; Aleris International, Leased Workers of Temporary Professionals, Malone Associates, Lewisport, KY. May 26, 2008

TA-W-70,168A; True Textiles, Inc., New York, NY. May 18, 2008

TA-W-70,168; True Textiles, Inc., Lancaster, SC. May 18, 2008

TA-W-70,233; Pine Hosiery Mills, Inc., Star, NC. May 19, 2008

TA-W-70,817; Hill's Family Corporation, Leased Workers From Remx Temporary Agency, Anaheim, CA. May 28, 2008

TA-W-71,513A; DeLong Sportswear, Corporate Office, Grinnell, IA. June 30, 2008

TA-W-71,513B; DeLong Sportswear, Manufacturing Facility, Grinnell, IA. June 30, 2008

TA-W-71,513; DeLong Sportswear, Warehouse and Support Facility, Grinnell, IA. June 30, 2008

TA-W-71,964A; DeLong Sportswear, Manufacturing Facility, Albia, IA. July 9, 2008

TA-W-71,964; DeLong Sportswear, Manufacturing Facility, Atlantic, IA. July 9, 2008

The following certifications have been issued. The requirements of Section 222(a)(2)(B) (shift in production or services) of the Trade Act have been met.

TA-W-72,144; Cummins Filtration, Leased Workers from Manpower, Lake Mills, IA. August 26, 2008

TA-W-70,190; Taylor-Wharton International, LLC, Sherwood Valve LLC, Leased Workers from Belcan Staffing, Washington, PA. May 18, 2008

TA-W-70,228; Johnson Controls, Inc., Greenfield, OH. May 19, 2008

TA-W-70,242A; Findlay Industries, Inc., Springfield Division, Springfield, OH. May 19, 2008

TA-W-70,242; Findlay Industries, Inc., Findlay Ohio Plant One, Findlay, OH. May 19, 2008

TA-W-70,290; Avery Dennison IBMB, Retail Information Services, Leased Workers of Staffmark, Rock Hill, SC. May 19, 2008

TA-W-70,394; Multi-Plastic of New Mexico, Inc., Leased Workers from Manpower, Inc. and RM Personnel, Inc., Las Cruces, NM. May 20, 2008

TA-W-70,448; Jabil Circuit, Inc., Electronics Materials Services Division, Leased Workers From Nextsources, Billerica, MA. May 18, 2008

TA-W-70,479; Air Products and Chemicals, Leased Workers From Covenant Security, Star Building Services, Easton, PA. May 21, 2008

TA-W-70,533; Edscha North America, Inc. (Formerly known as Edscha Jackson, Inc.), Centerpoint Administrative Offices, Pontiac, MI. May 18, 2008

TA-W-70,711; Thermo EGS Gauging, Inc., Thermo Fisher Scientific, Wilmington, MA. May 21, 2008

TA-W-70,758; Kulicke and Joffa Industries, Corporate Office, Fort Washington, PA. May 22, 2008

TA-W-71,026; Edscha Roof Systems, Pontiac, MI. June 3, 2008

TA-W-71,122; Masimo, Leased Workers from Volt, Apple One, and Pacific Technical Search, Irvine, CA. June 8, 2008

TA-W-71,165; Darly Custom Technology, Inc., Bloomfield, CT. June 10, 2008

TA-W-71,226; Tempel Steel Company, Leased from Aerotek Staffing, Chicago, IL. June 15, 2008

TA-W-71,330; Siemens Building Technologies, Inc., Leased Workers of Spherion Staffing Services, Florham Park, NJ. June 22, 2008

TA-W-71,343; Metso Minerals Industries, Inc., Lease Workers from Executive Staffing, Columbia, SC. June 22, 2008

TA-W-71,380A; Seagate Technology, Leased Workers from Spherion and Workforce Logic, Shakopee, MN. June 23, 2008

TA-W-71,380; Seagate Technology, LLC, Shakopee, MN. May 19, 2009

TA-W-71,520; USP Holding Corporation—dba US Products, Nilfisk-Advance, Leased Workers of Aerotek Company, Coeur d'Alene, ID. July 1, 2008

TA-W-71,526; Cinram Incorporated, Leased Workers of Manpower, Richmond, IN. June 30, 2008

TA-W-71,707; Hella Lighting Corporation, Leased Workers from Reliance One, Inc., York, SC. July 14, 2008

TA-W-71,760; Fair-Rite Products Corporation, Flat Rock, IL. June 15, 2009

TA-W-71,927; Irwin Industrial Tool, DeWitt, NE. September 1, 2009

TA-W-71,931A; AMETEK Vehicular Instrumentation Systems, Leased Workers from Express Employment Professionals, Grand Junction, CO. August 5, 2008

TA-W-71,931; AMETEK Vehicular Instrumentation Systems, Instrumentation and Specialty Controls, Leased Workers from SOS Staffing, Grand Junction, CO. August 16, 2009

TA-W-71,937; Huf North America, Huf Hulsbeck and Furst GMBH and Company KG, Leased Workers Staff Pro, Greeneville, TN. August 5, 2008

TA-W-71,938; GPSG, Unit of Ortho-McNeil-Janssen, Pharmaceuticals, Inc., Leased Workers of Kelly Temporary Agency, Raritan, NJ August 5, 2008

TA-W-71,957; Ametek, Inc., National Controls Corp., Instrumental and Leased Workers of Staff Force, West Chicago, IL. August 6, 2008

TA-W-71,970; SAIA-Burgess Holding Inc., Johnson Electric Division, Vandalia, OH. August 10, 2008

TA-W-72,003; Perry Slingsby Systems, Inc., Leased Workers from Aerotek, TR Launay, and Blue Laguna, Jupiter, FL. August 6, 2008

TA-W-72,023A; Micron Technology, Inc., Leased Workers Allied Barton, Allied, Applied Materials, Bledsoe, DNS, GCA, Boise, ID. August 11, 2008

TA-W-72,023B; Spectek, A Subsidiary of Micron Technology, Inc., Nampa, ID. September 14, 2009

TA-W-72,023C; Spectek, Micron Technology, Leased Workers Silicon Mountain Contract and Allied Barton, Nampa, ID. August 11, 2008

TA-W-72,023; Micron Technology, Inc., Boise, ID. September 14, 2009

TA-W-72,033; Albany International Corporation, Leased Workers from Randstad, Portland, TN. August 13, 2008

TA-W-72,086; Comfil Farr, Shawnee, OK. August 10, 2008

TA-W-72,158; Vital Diagnostics Inc., Vital Diagnostics Holding Corporation, Leased Workers from LG Professionals, Brea, CA. August 27, 2008

TA-W-72,161; Hokumo America Corporation, Hokumo Corporation Ltd., Bardentown, KY. August 18, 2008

TA-W-72,184; ABB, Inc., Power Products Medium Voltage, Leased Workers from Adecco, CSA, Global, Jmark, Lake Mary, FL. August 31, 2008

TA-W-72,192A; Delphi Packard Mississippi Operations, Packard E/EA, Brookehaven, MS. August 27, 2008

TA-W-72,192; Delphi Packard Mississippi Operations, Packard E/EA, Leased Workers from Securitas, Inc., Clinton, MS. August 27, 2008

TA-W-72,217; SAES Getters America, Inc., Cleveland, OH. September 2, 2008

TA-W-72,273; Top Eastern Drill (Formerly Kennametal, Inc.), Leased Workers from Mau, Manpower and Kelly Services, Evans, GA. September 1, 2008

TA-W-70,402; American and Efird, Inc., Ruddick Corporation/Gobal Supply Chain Operations, Gastonia, NC. May 19, 2008

TA-W-70,709; Horizon Hobby, Inc., Lost Division. Leased Workers of Unitech, Ontario, CA. May 18, 2008

TA-W-71,451; Doranco, Inc., Mansfield, MA. June 26, 2008

TA-W-70,319; Xerox Corporation, Leased Workers from Insight Global and Paladin Consulting, Lewisville, TX. May 18, 2008

TA-W-70,867; Convergys Corporation, Cincinnati, OH. May 28, 2008

TA-W-70,999; Moody's Analytics, Inc., On-Site Independent Contractors, South Bend, IN. June 4, 2008

TA-W-71,130; ACS Enterprise Solutions, Inc., Computer Services, Inc., East Syracuse, NY. May 21, 2008

TA-W-71,283; Wolters Kluwer Health, Inc., Pharma Solutions Business, Phoenix, AZ. June 12, 2008

TA-W-71,609; EDS, an HP Company/, Technology Solutions Group, Applications/Financial Services, Saint Charles, MO. July 2, 2008

TA-W-71,637; Stream Global Services, Inc., Sergeant Bluffs, IA. June 15, 2008

TA-W-71,810; Novell, Inc., Provo, UT. July 24, 2008

TA-W-71,823; Schawk Minneapolis, Minneapolis, MN. July 27, 2008

TA-W-71,914; Maersk Line, Sub. of A.P. Moller-Maersk Group, Leased Workers from Securitas, Sarcom, Remx, Charlotte, NC. August 3, 2008

TA-W-71,962; ConMed Electrosurgery, El Paso, TX. August 7, 2008

TA-W-72,062; Manpower, On-Site at IBM, Parts Sales Division and Parts Planning Division, Mechanicsburg, PA. August 6, 2008

TA-W-72,262; Imation Corporation, U.S. Customer Service Division, Leased Workers of Westaff, Oakdale, MN. September 9, 2008

TA-W-72,326; Managed Business Solutions, LLC, Working On-Site at Hewlett Packard, Farmington Hills, MI. September 15, 2008

TA-W-72,327; Managed Business Solutions, LLC, Working on-site at Hewlett Packard, Colorado Springs, CO. September 15, 2008

TA-W-70,659; Anthem Insurance Companies, Inc., Wellpoint, Inc., Louisville, KY. May 27, 2008

TA-W-71,220; Schering Corporation, Schering-Plough Corp., Information Technology, Leased Workers of IBM Corp. etc, Kenilworth, NJ. June 15, 2008

TA-W-71,244; Weekly Reader Corporation, The Reader's Digest Association, Inc., Pleasantville, NY. June 15, 2008

TA-W-71,499; Sara Lee Corporation, Leased Workers From EDS, Hewitt Packard, Sapphire Technology and Teksystems, Downers Grove, IL. June 30, 2008

The following certifications have been issued. The requirements of Section 222(b) (adversely affected workers in public agencies) of the Trade Act have been met.

None.

The following certifications have been issued. The requirements of Section 222(c) (supplier to a firm whose workers are certified eligible to apply for TAA) of the Trade Act have been met.

TA-W-70,158; Miller Welding and Machine Company, Brookville, PA. May 18, 2008

TA-W-70,794; American Appliance Products, Inc., A Subsidiary of SSW Holding Company, Inc., Newport, TN. May 18, 2008

TA-W-70,795; Emitec, Inc., Leased Workers from Marketplace Staffing and Ambassador Staffing, Fountain Inn, SC. May 26, 2008

TA-W-70,955; B and B Engineering, Medford, WI. June 2, 2008

TA-W-71,822; Parker Hannifin Corporation, Mobile Climate Systems Division, Lyons, NY. July 23, 2008

TA-W-71,888; Duffy Tool and Stamping, LLC, Leased Workers from Staffmark, Muncie, IN. July 29, 2008

TA-W-72,019; Superior Plastics, LLC, Rochester, MI. August 11, 2008

TA-W-72,156; West Allis Ductile Iron, A Sub. of Metal Technologies, Inc., Leased Workers from Sourcepoint Staffing, West Allis, WI. August 27, 2008

TA-W-72,182; Worthington Steel, Monroe Division, Monroe, OH. August 15, 2008

TA-W-72,242; Anchor Coupling, Inc., Leased Workers from Manpower, Chambersburg, PA. September 3, 2008

TA-W-70,033; Fielder Electric Motor Repair, Inc., Galax, VA. May 18, 2008

TA-W-70,288; Russell Brands, LLC, Russell Athletic Division, Atlanta, GA. May 18, 2009

TA-W-70,604; Accretech USA, Inc., Tokyo Seimitsu Co. Ltd, Boise, ID. May 18, 2008

The following certifications have been issued. The requirements of Section 222(c) (downstream producer for a firm whose workers are certified eligible to apply for TAA) of the Trade Act have been met.

TA-W-70,474; Samuel Steel Pickling Company, Twinsburg, OH. May 18, 2008

TA-W-71,173; Penske Logistics, LLC, A Subsidiary of Penske Truck Leasing Co., Leased Workers of Staffmark, Oxford, MS. June 11, 2008

TA-W-71,531; Newton Transportation Company, Inc., Leased Workers from Pad Leasing Associates, Hudson, NC. July 2, 2008

The following certifications have been issued. The requirements of Section 222(f) (firms identified by the International Trade Commission) of the Trade Act have been met.

TA-W-71,685; Goodyear Tire and Rubber Company, Akron Innovation Center Manufacturing, Akron Tech Center, Akron, OH. June 25, 2008

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

None.

The investigation revealed that the criteria under paragraphs (a)(2)(A)(i) (decline in sales or production, or both) and (a)(2)(B) (shift in production or services to a foreign country) of section 222 have not been met.

None.

The investigation revealed that the criteria under paragraphs(a)(2)(A) (increased imports) and (a)(2)(B) (shift in production or services to a foreign country) of section 222 have not been met.

TA-W-70,202; Eaton Corporation, Searcy, AR.

TA-W-70,444; Richland Manufacturing, Subsidiary of Eagle Wings Industries, Inc., Olney, IL.

TA-W-70,713; ConocoPhillips Company, Research and Development Group, Shared Services Division, Ponca City, OK.

TA-W-71,174; General Electric Company, Transportation Division, Erie, PA.

TA-W-71,251; Ancor Specialties, Hoeganaes Corporation, Ridgway, PA.

TA-W-71,757; Elkhart Brass Manufacturing Company, Inc., Shreve, OH.

TA-W-71,890; Camel MFG, Jamestown, TN.

TA-W-72,166; Gera Tool and Die Inc., St. Marys, PA.

TA-W-70,358; Eudora Garment Corporation, Eudora, AR.

TA-W-70,976; Job Works Inc., Fort Wayne, IN.

TA-W-71,089; Cowin and Company, Inc., Birmingham, AL.

TA-W-71,514; Lexington Home Brands, Lumber Yard Division, Thomasville, NC.

TA-W-71,776; Marion and Son Landscape Services LLC, Ararat, VA.

TA-W-71,858; Maritz Holdings, Inc., Maritz Learning, Fenton, MO.

TA-W-71,860; Cenveo Colorhouse, Minneapolis, MN.

TA-W-71,870; Highlander Energy Products Inc., Kane, PA.

TA-W-72,026; Pinnacle Airlines, Inc., Evansville, Indiana Division, Memphis, TN.

TA-W-70,047; Superior Fabrication Company, LLC, Kincheloe, MI.

The investigation revealed that the criteria under paragraphs (b)(2) and (b)(3) (public agency acquisition of services from a foreign country) of section 222 have not been met.

None.

The investigation revealed that criteria of Section 222(c)(2) has not been met. The workers' firm (or subdivision) is not a Supplier to or a Downstream Producer for a firm whose workers were certified as eligible to apply for TAA.

None.

I hereby certify that the aforementioned determinations were issued during the period of October 5 through October 16, 2009. Copies of these determinations are available for inspection in Room N-5428, U.S. Department of Labor, 200 Constitution Avenue, NW., Washington, DC 20210 during normal business hours or will be mailed to persons who write to the above address.

Dated: December 4, 2009.
Elliott S. Kushner,
Certifying Officer, Division of Trade Adjustment Assistance.

[FR Doc. E9-29504 Filed 12-10-09; 8:45 am]

BILLING CODE 4510-FN-P